DEPARTMENT OF HOUSING AND URBAN DEVELOPMENT

[Docket No. FR-5763-N-02]

Privacy Act; Notification of a New Privacy Act System of Records, Homeless Families Impact Study Data Files

AGENCY: Office of the Chief Information Officer, HUD.

ACTION: Notice of Proposed Revision of an Existing System of Records.

SUMMARY: In accordance with the Privacy Act of 1974, as amended (5 U.S.C. 552a), the Department of Housing and Urban Development, gives notice of a proposed revision of an existing Privacy Act system of records. The system of records is being updated to allow the Department to conduct a follow-up evaluation on the participants of the Homeless Families Impact Study. Additionally, the Department proposes to expand the data collected under the previous study to capture additional data to determine the effects that housing and service interventions has had on participating children. Refer to the “Categories of Records” caption to identify new record types. The overall goal of this study is to determine which intervention works best to promote housing stability, family preservation, and family well-being, and self-sufficiency for homeless families. This notice supersedes the previously published notice (October 4, 2010, 75 FR 24750).

Comments Due Date: March 28, 2014.

ADDRESSES: Interested persons are invited to submit comments regarding this notice to the Rules Docket Clerk, Office of General Counsel, Department of Housing and Urban Development, 451 Seventh Street SW., Room 10276, Washington, DC 20410-0500. Communications should refer to the above docket number and title. A copy of each communication submitted will be available for public inspection and copying between 8:00 a.m. and 5:00 p.m. weekdays at the above address.

FOR FURTHER INFORMATION CONTACT: Donna Robinson-Staton, Departmental Privacy Act Officer, 451 Seventh Street SW., Room 2256, Washington, DC 20410, Telephone Number (202) 402-8047. (This is not a toll-free number.) A telecommunication device for hearing-and speech-impaired individuals (TTY) is available at (800) 877-8339 (Federal Information Relay Service).

SUPPLEMENTARY INFORMATION: Pursuant to the Privacy Act of 1974 (5 U.S.C. 552a), as amended notice is given that HUD proposes to establish a revised system of records as identified as Homeless Families Impact Study Data Files.

Title 5 U.S.C. 552a(e)(4) and (11) provide that the public be afforded a 30-day period in which to comment on the new system of records.

The revised system report was submitted to the Office of Management and Budget (OMB), the Senate Committee on Governmental Affairs, and the House Committee on Government Reform pursuant to paragraph 4c of Appendix 1 to OMB Circular No. A-130, “Federal Responsibilities for Maintaining Records About Individuals,” July 25, 1994 (59 FR 37914).

Authority: 5 U.S.C. 552a 88 Stat. 1896; 42 U.S.C. 3535(d).

Dated: February 12, 2014.
Kevin R. Cooke, Jr.,
Acting Chief Information Officer.

PD&R/RRE.03

System name:

Homeless Families Impact Study Data Files.

System location:

Homeless Families Impact Study Data Files are to be located at Abt Associates Inc., 55 Wheeler Street, Cambridge, MA; Abt Associates Inc., 4550 Montgomery Avenue, Bethesda, MD; and the AT&T Datacenter, 15 Enterprise Ave, Secaucus, NJ 07094. U.S. Department of Housing and Urban Development, 451 7th Street SW., Washington, DC 20410.

Categories of individuals covered by the system:

Families enrolled in Homeless Families Impact Study (also known as the Family Options Study).

Categories of records in the system:

Name; Social Security Number; study identifier; birth date; contact information (home address, telephone numbers, email address); demographic characteristics of the family head (e.g., race/ethnicity, gender, marital status); number of children and other adults in the household (a roster of adults and children with the family head at baseline and spouse/partner and children not with the family head at baseline, and characteristics of these family members); income sources and total family income; employment and earnings for the family head; health (behavioral health and physical health of the family head); substance use; foster care history for the family head; exposure to domestic violence; housing status prior to shelter entry; homelessness history; barriers to housing; homeless program participation; contact information for family and friends; and assigned study intervention, and study involvement information. The revised system, to be effective as of March 2014, will expand the categories of records to include: instances of family separation and reunification; foster care placements of children during the follow-up period; food insecurity; economic well-being (economic stressors and financial stability); parenting practices; family routines; home environment; program service participation and experiences; child well-being (including: child behavioral health, child physical health, school engagement, child development, child executive functioning, risky behaviors of older youth, and child academic performance).

Authority for maintenance of the system:

Sec. 501, 502, Housing and Urban Development Act of 1970 (Pub.L. 91-609), 12 U.S.C. 1701z-1, 1701z-2.

Purpose:

The U.S. Department of Housing and Urban Development (HUD) is undertaking an evaluation of the Impacts of Housing and Services Interventions for Homeless Families, also known as the Family Options Study, to provide research evidence to help federal policymakers, community planners, and local practitioners make sound decisions about the best ways to address homelessness among families. This study will compare four combinations of housing and service interventions for homeless families in a rigorous, multi-site experiment, to determine what interventions work best to promote family stability and well-being and, within the limits of statistical power, what sorts of families benefit most from each intervention. The interventions are: (1) Permanent housing subsidy without services (Subsidy Only); (2) Community-Based Rapid Re-housing (CBRR), consisting of temporary housing subsidy provided in conventional housing with limited supportive services; (3) temporary housing subsidy provided in facility-based housing with intensive services but no guarantee of a permanent subsidy (Project-Based Transitional Housing-PBTH); and (4) shelter, with whatever services the shelter ordinarily provides to its residents and any other assistance available in the community (Usual Care). The information collected is necessary to identify and track the participating families over the course of the study and determine the effectiveness of the interventions. The random assignment data file within this system will include personal identifiers that can be used to locate records to update families' whereabouts or to verify if a family has already been enrolled in the study. After data collection is complete, researchers will use a dataset that is stripped of identifying information for all analyses. Analysis records will be identified with a randomly generated study identification number that is unrelated to personal information such as SSN, DOB, or name. The study identifier can be linked to the personal identifying information only by a small number of central research staff at Abt Associates. At the end of the 36-month follow-up, HUD staff will be provided with the identifiers only for families who gave consent to participate in the 36-month follow-up. Thus, authorized HUD research staff would also be able to link the study identifier to personal identifying information.

Routine uses of records maintained in the system, including categories of users and the purposes of such uses:

• To authorized Abt SRBI researchers to match primary study data with other datasets for tracking (e.g., matching with change of address databases) to track and locate families throughout the study and to manage the data collection process.

• To authorized Abt researchers to: (1) Access and link data from one phase of data collection to another or to match primary study data with other datasets for data collection purposes (e.g., matching with HUD's public housing dataset to measure housing receipt); (2) perform statistical Analysis and to develop findings for this research study; (3) and Create both a public use file of non-identifiable data and a more-detailed restricted access file of non-identifiable data for disclosure to authorized researchers for other purposes.

• To other authorized HUD researchers that HUD funds to further study the impacts of the housing and services interventions that are the focus of this study (community based rapid rehousing, project-based transitional housing, permanent subsidy and usual care) and additional ways each can be used to address homelessness.

Policies and practices for storing, retrieving, accessing, retaining, and disposing of records in the system:

Storage:

Electronic Records: Backup media is stored in a commercial locked facility and the media is transported using locked, tracked containers. Unencrypted data will never be stored on a laptop or on a movable media such as CDs, diskettes, or USB flash drives. Paper Records: All hard copy forms with personal identifying data (the participant agreement/informed consent form) will be stored securely in a locked cabinet that can only be accessed by authorized individuals working on the data. The locked cabinet will be stored in a locked office in a limited-access building. While in the field, paper records will be stored securely until they are processed and securely sent to Abt Associates via commercial mail carrier.

Retrievability:

Records within the random assignment data file can be retrieved by name, social security number, study identification number, birthdate, or spouse name.

Safeguards:

The following safeguards shall be used to secure data in storage, retrieval, during access, and disposal. For Electronic Records: All personal data will be maintained on a secure workstation or server that is protected by a firewall and complex passwords in a directory that can only be accessed by the network administrators and the analysts actively working on the data; access rights to the data are granted to limited researchers on a need-to-know basis, and the level of access provided to each researcher is based on the minimal level required that individual to fulfill his research role; all systems used to process or store data have Federal security controls applied to them; the data will be backed up on a regular basis to safeguard against system failures or disasters; and, unencrypted data will never be stored on a laptop or on a movable media such as CDs, diskettes, or USB flash drives. For Paper Records: The site interviewers will securely store any hard copy forms with personal identifiers until they are shipped to Abt Associates via commercial mail services; all hard copy forms with personal identifying data (the participant agreement/informed consent form) will be stored securely in a locked cabinet that can only be accessed by authorized individuals working on the data. The locked cabinet will be stored in a locked office in a limited-access building. Additionally, permissions will be defined for each authorized user based on the user's role on the project. For example, the local site interviewer will be able to review data for study participants only for his or her own specific site. Study data will be aggregated or de-identified at the highest level possible for each required, authorized use. Abt Associates and HUD will not use or disclose the data for any purposes other than for the “The Impacts of Housing and Services Interventions for Homeless Families” study (“Family Options Study”) or other purposes described above and specified in the consent with participating families. Abt Associates, HUD, and other authorized users will not disclose the data to additional parties without the written authority of the participating families or providing organizations, except where required by law.

Retention and disposal:

The retention and disposal procedures are in keeping with HUD's records management policies as described in 44 U.S.C. 3101 and 44 U.S.C. 3303. All PII associated with the project will be destroyed by Abt, Abt SRBI and HUD or otherwise rendered irrecoverable per NIST SP 800-88 “Guidelines for Media Sanitization” (September 2006). The data may remain on backup media for a longer period of time, but will be similarly permanently destroyed at the end of the three-year retention period required in the contract.

System manager(s) and address:

Carol Star, Director of the Program Evaluation Division, Office of Policy Development and Research, Department of Housing and Urban Development, 451 Seventh Street SW., Washington, DC 20410, Telephone Number (202) 402-6139.

Notification and Record Access Procedure:

For information, assistance, or inquiry about existence or records, contact Donna Robinson-Stanton, Chief Privacy Officer, Department of Housing and Urban Development, 451 Seventh Street SW., Washington, DC, in accordance with the procedures in 24 CFR part 16. The Department's rules for providing access to records to the individual concerned appear in 24 CFR parts 16. If additional information or assistance is required, contact the Privacy Act Officer at the appropriate location. The data collected for inclusion in this system of records is also protected by a federal Certificate of Confidentiality issued by the National Institute of Child Health and Human Development (NICHD). This certificate protects the data from being released under Freedom of Information Act requests and subpoena.

Contesting record procedures:

The Department's rules for contesting the contents of records and appealing initial denials, by the individual concerned, appear in 24 CFR part 16. If additional information or assistance is needed, it may be obtained by contacting:

(i) In relation to contesting contents of records, the Departmental Privacy Act, Department of Housing and Urban Development, 451 Seventh Street SW., Room 2256, Washington, DC 20410, or

(ii) In relation to appeals of initial denials, the HUD Departmental Privacy Appeals Officers, Office of General Counsel, Department of Housing and Urban Development, 451 Seventh Street SW., Washington, DC 20410.

Record source categories:

Original data collected directly from participating families, third party data for tracking purposes (e.g. National Change of Address database, credit bureaus), administrative data on HUD's public housing programs, and non-HUD administrative data such as the Adoption and Foster Care Analysis and Reporting System (AFCARS) data and individual-level data on earnings, wages and the receipt of unemployment insurance.

Exemption from certain of provision of the Act:

None.

[FR Doc. 2014-04202 Filed 2-25-14; 8:45 am]

BILLING CODE 4210-67-P